DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: American Lobster—Annual Trap Transfer Program.

OMB Control Number: 0648-0673.

Form Number(s): None.

Type of Request: Regular.

Number of Respondents: 102.

Average Hours Per Response: 10 minutes.

Burden Hours: 17.

Needs and Uses: NOAA's National Marine Fisheries Service (NMFS) collects annual application forms from lobster permit holders who wish to buy and/or sell Area 2, 3, or Outer Cape Area trap allocation through the Trap Transfer Program. The transfer applications are only accepted during a 2-month period (from August 1 through September 30) each year, and the revised allocations for each participating lobster permit resulting from the transfers become effective at the start of the following Federal lobster fishing year on May 1. Both the seller and buyer of the traps are required to sign the application form, which includes each permit holder's permit and vessel information, the number of traps sold, and the revised number of traps received by the buyer, inclusive of the amount removed according to the transfer tax. Both parties must sign the form as an agreement to the number of traps in the transfer. The parties must date the document and show that the transferring permit holder has sufficient allocation to transfer and the permit holder receiving the traps has sufficient room under any applicable trap cap. This information allows NMFS to process and track transfers of lobster trap allocations through the Trap Transfer Program, and better enables the monitoring and management of the American lobster fishery as a whole.

Affected Public: Businesses or other for-profit organizations; Individuals or households; Federal government; and State, Local, or Tribal government.

Frequency: Once per transaction.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2019-27743 Filed 12-23-19; 8:45 am]

BILLING CODE 3510-22-P